DEPARTMENT OF LABOR

Employment and Training Administration

[TA-W-37,513]

Apparel Sales & Printing, Inc., Andrews, SC; Notice of Termination of Investigation

Pursuant to section 221 of the Trade Act of 1974; an investigation was initiated on February 14, 2000, in response to a worker petition which was filed by Elizey & Brooks, LLC, on behalf of workers at Apparel Sales & Printing, Inc., Andrews, South Carolina.

The petitioner has requested that the petition be withdrawn. Consequently, further investigation in this case would serve no purpose, and the investigation has been terminated.

Signed in Washington, D.C. this 17th day of April, 2000.
Grant D. Beale,
Program Manager, Division of Trade Adjustment Assistance.

[FR Doc. 00-10579 Filed 4-27-00; 8:45 am]

BILLING CODE 4510-30-M